DEPARTMENT OF THE INTERIOR

Bureau of Land Management

[LLCO923000 L13400000.PQ0000]

Notice Seeking Public Interest for Solar Energy Development on Public Lands in the State of Colorado

AGENCY: Bureau of Land Management, Interior.

ACTION: Notice.

SUMMARY: The Bureau of Land Management's (BLM) Colorado State Office is providing an opportunity for parties to express an interest in proposing solar energy development projects on approximately 3,705 acres of public land administered by the BLM's San Luis Valley Field Office in Saguache and Conejos counties, Colorado.

DATES: Parties interested in proposing a solar energy development project on the lands described in this notice should submit a letter of interest in response to this notice and a preliminary right-of-way (ROW) application (SF-299) to the address listed below on or before May 21, 2013. The ROW application form can be downloaded at: http://www.gsa.gov/portal/forms/download/117318.

ADDRESSES: Documentation should be sent to the Bureau of Land Management, Attention: Maryanne Kurtinaitis, CO923, 2850 Youngfield Street, Lakewood, CO 80215. Electronic submissions will not be accepted.

FOR FURTHER INFORMATION CONTACT: Maryanne Kurtinaitis, Renewable Energy Program Manager, by telephone at 303-239-3708 or by email at mkurtina@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: BLM Colorado has received two ROW applications within two designated Solar Energy Zones (SEZs) serialized as COC-074761 (Los Mogotes East SEZ) and COC-074763 (De Tilla Gulch SEZ). Applications for solar energy development are processed as ROW authorizations under Title V of the Federal Land Policy and Management Act of 1976. The regulations at 43 CFR 2804.23 authorize the BLM to determine whether competition exists among ROW applications filed for the same facility or system. The regulations also allow the BLM to resolve any such competition by using competitive bidding procedures.

The BLM will review submissions from interested parties in response to this notice and determine whether competition exists to develop solar energy projects in the De Tilla Gulch and Los Mogotes East SEZs. If the BLM determines sufficient competition exists, the BLM may use a competitive bidding process, consistent with the regulations, to select a preferred applicant in one or both of the SEZs.

The first parcel is called De Tilla Gulch SEZ, and consists of approximately 1,064 acres of public land within sections 29, 30, 31, 32, and 33 of T. 45 N., R. 9 E., New Mexico Principal Meridian, Saguache County, Colorado. This parcel lies approximately seven miles east of the town of Saguache, Colorado. The second parcel is called Los Mogotes East SEZ, and consists of approximately 2,641 acres of public land within sections 1, 12, 13, 24, and 25 of T. 34N., R. 8 E., New Mexico Principal Meridian, Conejos County, Colorado. This parcel lies three miles west of the town of Romeo, Colorado. A map of both SEZs can be viewed and downloaded at: http://solareis.anl.gov/maps/index.cfm.

Authority: 43 CFR 2804.23.

Helen M. Hankins,
BLM Colorado State Director.

[FR Doc. 2013-06507 Filed 3-21-13; 8:45 am]

BILLING CODE 4310-JB-P